DEPARTMENT OF THE INTERIOR

Bureau of Land Management

[LLCON00000. L18200000.XX0000. LXSICADR0000]

Notice of Public Meeting Postponement, BLM Colorado Northwest Resource Advisory Council

AGENCY: Bureau of Land Management, Interior.

ACTION: Notice of Public Meeting Postponement.

SUMMARY: The Bureau of Land Management (BLM) published a notice in the Federal Register on January 16, 2015, notifying the public of meeting dates and locations for the BLM Colorado Northwest Resource Advisory Council (RAC). The BLM is postponing the December 3, 2015, meeting until further notice.

FOR FURTHER INFORMATION CONTACT: Joe Meyer, BLM Northwest Colorado District Manager, 2815 H Road, CO 81506, 970-244-3000; or Chris Joyner, Public Affairs Specialist, 2815 H Road, CO 81506, 970-244-3000. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The RAC meets in accordance with the Federal Land Policy and Management Act of 1976 and the Federal Advisory Committee Act of 1972 (FACA), 5 U.S.C.

Greg Shoop,
BLM Colorado Acting State Director.

[FR Doc. 2015-29994 Filed 11-24-15; 8:45 am]

BILLING CODE 4310-JB-P